DEPARTMENT OF HOMELAND SECURITY

Coast Guard

[CGD17-04-002]

Cook Inlet Regional Citizen's Advisory Committee; Charter Renewal

AGENCY: Coast Guard, DHS.

ACTION: Notice of recertification.

SUMMARY: The Coast Guard has recertified the Cook Inlet Regional Citizen's Advisory Council for the period covering September 1, 2004 through August 31, 2005. Under the Oil Terminal and Oil Tanker Environmental Oversight Act of 1990, the Coast Guard may certify on an annual basis an alternative voluntary advisory group in lieu of a regional citizens' advisory council for Cook Inlet, Alaska. This advisory group monitors the activities of terminal facilities and crude oil tankers under the Cook Inlet Program established by the statute.

DATES: The Cook Inlet Regional Citizen's Advisory Council is certified through August 31, 2005.

ADDRESSES: You may request a copy of the recertification letter by writing to Commander, Seventeenth Coast Guard District (mor), P.O. Box 25517, Juneau, AK 99802-5517.

FOR FURTHER INFORMATION CONTACT: Lieutenant Andrew Vanskike, Seventeenth Coast Guard District (mor), 907-463-2818.

SUPPLEMENTARY INFORMATION:

Background And Purpose

On September 1, 2004, the Coast Guard recertified the Cook Inlet Regional Citizen's Advisory Council (CIRCAC) through August 31, 2005. Under the Oil Terminal and Oil Tanker Environmental Oversight Act of 1990 (33 U.S.C. 2732), the Coast Guard may certify, on an annual basis, an alternative voluntary advisory group in lieu of a regional citizens' advisory council for Cook Inlet, Alaska. This advisory group monitors the activities of terminal facilities and crude oil tankers under the Cook Inlet Program established by Congress, 33 U.S.C. 2732 (b).

On September 16, 2002, the Coast Guard published a notice of policy on revised recertification procedures for alternative voluntary advisory groups in lieu of councils at Prince William Sound and Cook Inlet, AK (67 FR 58440, 58441). This revised policy indicated that applicants seeking recertification in 2003 and 2004 need only submit a streamlined application and public comments would not be solicited prior to recertification.

Dated: September 24, 2004.
James C. Olson,
Rear Admiral, U.S. Coast Guard, Commander, Seventeenth Coast Guard District.

[FR Doc. 04-23370 Filed 10-18-04; 8:45 am]

BILLING CODE 4910-15-M